DEPARTMENT OF COMMERCE

National Oceanic and Atmospheric Administration

50 CFR Part 648

[Docket No. 240315-0081; RTID 0648-XE321]

Fisheries of the Northeastern United States; Blueline Tilefish Fishery; 2024 Blueline Tilefish Commercial Quota Harvested

AGENCY: National Marine Fisheries Service (NMFS), National Oceanic and Atmospheric Administration (NOAA), Commerce.

ACTION: Temporary rule; closure.

SUMMARY: Federal commercial tilefish permit holders are prohibited from fishing for, catching, possessing, transferring or landing blueline tilefish in the Tilefish Management Unit for the remainder of the 2024 fishing year. This action is required because NMFS has determined that 100 percent of the 2024 total allowable landings have been caught. This action is intended to prevent over-harvest of blueline tilefish for the fishing year.

DATES: Effective September 23, 2024, through December 31, 2024.

FOR FURTHER INFORMATION CONTACT: Douglas Potts, Fishery Policy Analyst, douglas.potts@noaa.gov, 978-281-9241.

SUPPLEMENTARY INFORMATION: Regulations for the blueline tilefish fishery are at 50 CFR part 648. The regulations at § 648.295(b)(2)(ii) require that when NMFS projects that blueline tilefish catch will reach 100 percent of the total allowable landings (TAL), the Regional Administrator must close the commercial blueline tilefish fishery for the remainder of the fishing year. No vessel may retain or land blueline tilefish in or from the Tilefish Management Unit after the announced closure date. NMFS monitors the blueline tilefish fishery catch based on dealer reports, state data, and other available information. NMFS must publish a notice in the Federal Register notifying blueline tilefish vessel and dealer permit holders of the closure date when 100 percent of the TAL is projected to be landed.

The Regional Administrator has determined, based on dealer reports and other available information, that the blueline tilefish commercial fishery has caught 100 percent of the TAL. Effective September 23, 2024 vessels may not retain or land blueline tilefish in or from the Tilefish Management Unit through December 31, 2024.

Classification

NMFS issues this action pursuant to section 305(d) of the Magnuson-Stevens Fishery Conservation and Management Act. This action is required by 50 CFR part 648, which was issued pursuant to section 304(b), and is exempt from review under Executive Order 12866.

NMFS finds good cause pursuant to 5 U.S.C. 553(b)(B) and 5 U.S.C. 553(d)(3) to waive prior notice and the opportunity for public comment and the delayed effectiveness period because it would be contrary to the public interest and impracticable. Data and other information indicating the blueline tilefish commercial fishery has landed 100 percent of the TAL have only recently become available. Landings data are updated by dealer reports dealers on a weekly basis, and NMFS monitors data as catch increases toward the limit. This action is routine and formulaic. The regulations at § 648.295(b)(2)(ii) require such action to ensure that blueline tilefish commercial vessels do not exceed the 2024 TAL. If implementation of this action is delayed, the Annual Catch Limit for the 2024 fishing year may be exceeded, thereby undermining the conservation objectives of the Tilefish Fishery Management Plan. Also, the public had prior notice and full opportunity to comment on this process when the provisions regarding closures and the 2024 quota levels were put in place.

Authority: 16 U.S.C. 1801 et seq.

Dated: September 20, 2024.
Karen H. Abrams,
Acting Director, Office of Sustainable Fisheries, National Marine Fisheries Service.

[FR Doc. 2024-22033 Filed 9-23-24; 4:15 pm]

BILLING CODE 3510-22-P